DEPARTMENT OF ENERGY

Federal Energy Regulatory Commission

[Docket No. AC04-4-000, et al.]

Trunkline Gas Company, LLC, et al.; Electric Rate and Corporate Filings

November 20, 2003.

The following filings have been made with the Commission. The filings are listed in ascending order within each docket classification.

1. Trunkline Gas Company, LLC

[Docket No. AC04-4-000]

Take notice that on November 18, 2003, Trunkline Gas Company, LLC, submitted a compliance filing, pursuant to the accounting and reporting requirements set forth by the Commission in Order 631, journal entries and supporting information for any adjustments made that affect net income as a result of implementing the accounting rules contained in Order 631.

Comment Date: December 9, 2003.

2. Sea Robin Pipeline Company

[Docket No. AC04-5-000]

Take notice that on November 18, 2003, Sea Robin Pipeline Company, submitted a compliance filing, pursuant to the accounting and reporting requirements set forth by the Commission in Order 631, journal entries and supporting information for any adjustments made that affect net income as a result of implementing the accounting rules contained in Order 631.

Comment Date: December 9, 2003.

3. Atlantic City Electric Company and Atlantic Generation, LLC

[Docket No. EC04-12-000]

Take notice that, on November 14, 2003, Atlantic City Electric Company (ACE) and Conectiv Atlantic Generation, LLC (CAG) (collectively, the Applicants), tendered for filing a change to their October 31, 2003 filing in the above-captioned proceeding stating that, depending upon the outcome of analysis being conducted by their tax consultants, the price of the transfer will be at either book or appraised value.

Applicants state that copies of the filing were served on the Delaware Public Service Commission, the Maryland Public Service Commission, the New Jersey Board of Public Utilities, the Virginia State Corporation Commission, the District of Columbia Public Service Commission and the Securities and Exchange Commission.

Comment Date: November 28, 2003.

4. KeySpan Corporation, KeySpan Generation, LLC, KeySpan-Port Jefferson Energy Center, LLC, KeySpan-Glenwood Energy Center, LLC, and KeySpan Energy Development Corporation

[Docket No. EC04-24-000]

Take notice that on November 17, 2003, pursuant to Section 203 of the Federal Power Act, KeySpan Corporation, KeySpan Generation, LLC, KeySpan-Glenwood Energy Center, LLC, KeySpan-Port Jefferson Energy Center, LLC, and KeySpan Energy Development Corporation (collectively, Applicants) filed a joint application for approval of a corporate reorganization. Applicants state that the proposed reorganization will not change the ultimate ownership of the facilities.

A copy of the application has been served on the New York Public Service Commission. The Applicants have requested waivers of the Commission's regulations so that the filing may become effective at the earliest possible date, but no later than as of the date the New York Public Service Commission approves the corporate reorganization.

Comment Date: December 8, 2003.

5. Pacific Gas and Electric Company

[Docket No. EL04-19-000]

Take notice that on November 10, 2003, Pacific Gas and Electric Company (PG&E) submitted for filing a Petition for Declaratory Order requesting that the Commission extend the terms of its Order Granting in Part Petition For Declaratory Order issued March 29, 2000.

Comment Date: December 1, 2003.

6. New York State Electric & Gas Corporation

[Docket No. ER03-587-005]

Take notice that on November 14, 2003, New York State Electric & Gas Corporation (NYSEG) submitted for filing First Revised Rate Schedule FERC No. 32 a Borderline Agreement between NYSEG and Central Hudson Gas & Electric Corporation in compliance with the Commission's April 28, 2003 Order in Docket No. ER03-587-000.

Comment Date: December 5, 2003.

7. California Independent System Operator Corporation

[Docket Nos. ER03-1221-002]

Take notice that on November 17, 2003, the California Independent System Operator Corporation (ISO) submitted a filing to comply with the Order issued in Docket No. ER03-1221-000 on October 17, 2003, 105 FERC ¶ 61,074.

The ISO states that the compliance filing has been served all on parties to this proceeding.

Comment Date: December 8, 2003.

8. Orange and Rockland Utilities, Inc.

[ Docket No. ER03-1373-001]

Take notice that on November 14, 2003, Orange and Rockland Utilities, Inc. (Orange and Rockland), amended its September 23, 2003 filing in Docket No. ER03-1373-000 in order to file a Notice of Cancellation form that due to inadvertent administrative error had been omitted from Orange and Rockland's initial filing.

Orange and Rockland states that a copy of this filing has been served by mail upon the New York Power Authority and the Public Power Association of New Jersey.

Comment Date: December 5, 2003.

9. Worthington Generation L.L.C.

[Docket No. ER04-45-001]

Take notice that on November 14, 2003, Worthington Generation L.L.C. submitted for filing an amendment to their Notice of Cancellation filed on October 15, 2003.

Comment Date: December 5, 2003.

10. Southern California Edison Company

[Docket No. ER04-184-000]

Take notice that on November 14, 2003, Southern California Edison Company (SCE) tendered for filing an amended Interconnection Facilities Agreement (Amended IFA) between Pastoria Energy Facility, LLC (Pastoria) and SCE. SCE states that the Amended IFA specifies the terms and conditions pursuant to which SCE will interconnect Pastoria's 750 MW of generation to the California Independent System Operator Controlled Grid pursuant to SCE's Transmission Owner Tariff, FERC Electric Tariff, Second Revised Original Volume No. 6. SCE further states that the Amended IFA will replace, in its entirety, the Interconnection Facilities Agreement between SCE and Pastoria accepted as Service Agreement No. 12 under SCE's Transmission Owner Tariff in Docket No. ER01-3114-000, as amended in Docket No. ER02-2554-000. SCE requests that the Amended IFA become effective one day after filing.

SCE states that copies of this filing were served upon the Public Utilities Commission of the State of California and Pastoria.

Comment Date: December 5, 2003.

11. American Transmission Company LLC

[Docket No. ER04-192-000]

Take notice that on November 14, 2003, American Transmission Company LLC (ATCLLC) tendered for filing a Generation-Transmission Interconnection Agreement between ATCLLC and Power Ventures Group, LLC. ATCLLC requests an effective date of October 15, 2002.

Comment Date: December 5, 2003.

12. Commonwealth Edison Company

[Docket No. ER04-193-000]

Take notice that on November 14, 2003, Commonwealth Edison Company (ComEd) tendered for filing with the Federal Energy Regulatory Commission (Commission) amendments to Interconnection Agreements entered into between ComEd and Midwest Generation, LLC (Midwest). ComEd requests an effective date of August 12, 2003 and accordingly seeks waiver of the Commission's notice requirements.

ComEd states that copies of the filing were served on Midwest and the Illinois Commerce Commission.

Comment Date: December 5, 2003.

13. Midwest Independent Transmission System Operator, Inc.

[Docket No. ER04-194-000]

Take notice that on November 14, 2003, the Midwest Independent Transmission System Operator, Inc. (Midwest ISO) pursuant to section 205 of the Federal Power Act and § 35.13 of the Commission's regulations, 18 CFR 35.13 (2002), submitted for filing revisions to Exhibit B (Interconnection Points) of the Network Integration Transmission Service Agreement under the Midwest ISO's Open Access Transmission Tariff, FERC Electric Tariff, Second Revised Volume No.1, between the City of Hart and the Midwest ISO.

Midwest ISO states that a copy of this filing has been served on all parties.

Comment Date: December 5, 2003.

14. Mirant Las Vegas, LLC, Duke Energy Moapa, LLC, Gen West, LLC, Las Vegas Cogeneration II, LLC, Reliant Energy Bighorn, LLC, and Nevada Power Company

[Docket Nos. TX03-1-003, ER02-1741-003, and ER02-1742-003]

Take notice that on November 10, 2003, Nevada Power Company and on November 12, 2003, Mirant Las Vegas, LLC; Reliant Energy Bighorn, LLC; Duke Energy Moapa, LLC; GenWest; Diamond Generating Corp.; and the Los Angeles Department of Water and Power, in its capacity as operating agent for the McCullough Substation filed informational responses to the Commission's September 12, 2003 Order in this proceeding. Mirant Las Vegas, et al., 104 FERC ¶ 61,275 (2003).

Comment Date: December 8, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Linda L. Mitry,
Acting Secretary.

[FR Doc. E3-00415 Filed 12-01-03; 8:45 am]

BILLING CODE 6717-01-P